U.S. DEPARTMENT OF COMMERCE

Foreign Trade Zones Board

Order No. 1398

Approval for Subzone Expansion and Permanent Manufacturing Authority, (Polyethylene Tubing), Foreign Trade Subzone 119B, Wirsbo Company, Apple Valley, Minnesota

Pursuant to its authority under the Foreign-Trade Zones Act of June 18, 1934, as amended (19 U.S.C. 81a-81u), the Foreign-Trade Zones Board (the Board) adopts the following Order:

Whereas, the Greater Metropolitan Area Foreign Trade Zone Commission, grantee of FTZ 119 (Minneapolis, Minnesota), has requested authority on behalf of the Wirsbo Company (Wirsbo), operator of FTZ 119B, at the Wirsbo polyethylene (HDPE) tubing manufacturing plant in Apple Valley, Minnesota, to expand Subzone 119B to include a new site in Burnsville, Minnesota, and to extend authority to manufacture polyethylene tubing under FTZ procedures on a permanent basis (FTZ Doc. 63-2003, filed 12/12/2003);

Whereas, notice inviting public comment was given in the Federal Register (68 FR 71060, 12-22-2003);

Whereas, the Board adopts the findings and recommendations of the examiner's report, and finds that the requirements of the FTZ Act and the Board's regulations are satisfied, and that approval of the application is in the public interest;

Now, therefore, the Board hereby approves the request, subject to the FTZ Act and the Board's regulations, including Section 400.28.

Signed at Washington, DC, this 9th day of June, 2005.

Joseph A. Spetrini,
Acting Assistant Secretary of Commerce for Import Administration, Alternate Chairman, Foreign-Trade Zones Board.
Attest:
Dennis Puccinelli,
Executive Secretary.

[FR Doc. 05-12370 Filed 6-21-05; 8:45 am]

BILLING CODE 3510-DS-S